DEPARTMENT OF JUSTICE

Notice of Lodging of Consent Decree Under the Clean Water Act (“CWA”)

Notice is hereby given that on February 6, 2012 a proposed Consent Decree (“Decree”) in United States v. Union Pacific Railroad Company (“UP”), Civil Action No. 1:12-cv-00284-REB was lodged with the United States District Court for the District of Colorado.

In this action the United States on behalf of the Environmental Protection Agency (“EPA”) filed a complaint against Union Pacific Railroad Company seeking permanent injunctive relief and civil penalties under the Clean Water Act (“CWA”), 33 U.S.C. 1251-1387, resulting from unauthorized discharge of oil and coal from railcars and locomotives it owned and operated in Colorado, Utah, and Wyoming into the waters of the United States or adjoining shorelines, the failure to comply with Spill Prevention, Control and Countermeasure (“SPCC”) and Facility Response Plan (“FRP”) regulations issued under Section 311(j) of the CWA, 33 U.S.C. 1321(j), at railyards it owns and operates in the Colorado, Utah and Wyoming, and the failure to comply with CWA storm water discharge permits for railyards it owns and operates in Utah.

The Decree requires that within sixty (60) days upon the Effective Date, the Defendant shall provide documentation to EPA demonstrating that the SPCC Plan deficiencies alleged in the Complaint have been corrected. It also requires Defendant to perform various compliance projects related to its SPCC violations at railyards in Colorado, Utah and Wyoming pursuant to an expeditious schedule. Defendant must also correct deficiencies in its FRP at the Rawlins, Wyoming railyard, and conduct monitoring at all railyards to ensure SPCC and FRP compliance. In addition, the Decree requires the Defendant to pay within thirty (30) days the sum of $1.5 million as a civil penalty, together with interest accruing from the date on which the Consent Decree is lodged with the court.

The Department of Justice will receive for a period of thirty (30) days from the date of this publication comments relating to the Decree. Comments should be addressed to the Assistant Attorney General, Environment and Natural Resources Division, P.O. Box 7611, U.S. Department of Justice, Washington, DC 20044-7611, or emailed to pubcomment-ees.enrd@usdoj.gov. The comments should refer to United States v. Union Pacific Railroad Company, D.J. Ref. 90-5-1-1-09194.

During the public comment period, the Decree may be examined on the following Department of Justice Web site: http://www.usdoj.gov/enrd/Consent_Decree.html. A copy of the Consent Decree may also be obtained by mail from the Consent Decree Library, P.O. Box 7611, U.S. Department of Justice, Washington, DC 20044-7611, or by faxing or emailing a request to “Consent Decree Copy” EESCDCopy.ENRD@USDOJ.gov, fax number 202-514-0097, phone confirmation number: 202-514-5271. If requesting a copy from the Consent Decree Library by mail, please enclose a check in the amount of $10.00 (.25 cents per page reproduction cost) payable to the U.S. Treasury or, if requesting by email or fax, please forward a check in that amount to the Consent Decree Library at the address given above.

Robert Brook,
Assistant Section Chief, Environmental Enforcement Section, Environment and Natural Resources Division.

[FR Doc. 2012-3092 Filed 2-9-12; 8:45 am]

BILLING CODE 4410-15-P